DEPARTMENT OF THE INTERIOR

Bureau of Land Management

[NM-030-1610-DT]

Notice of Availability of the Proposed Resource Management Plan Amendment and Final Environmental Impact Statement for McGregor Range, Otero County, NM

AGENCY: Bureau of Land Management (BLM), Interior.

ACTION: Notice of availability.

SUMMARY: In accordance with the Federal Land Policy and Management Act (FLPMA) and the National Environmental Policy Act (NEPA), the Bureau of Land Management (BLM) announces the availability of the Proposed Resource Management Plan Amendment/Final Environmental Impact Statement (PRMPA/FEIS) for McGregor Range in Otero County, New Mexico. The planning area encompasses approximately 608,000 surface acres of public land withdrawn by the Department of Army and jointly managed by the Las Cruces District Office and Fort Bliss Texas. It is located in south central Otero County in southern New Mexico. The BLM has and will continue to work closely with all interested parties to identify management decisions that are best suited to the needs of the public. Final decisions will supersede those in the previous RMPA for McGregor Range that was completed in 1990, and will provide direction for management of the resources and public uses of the withdrawn public land.

DATES: The PRMPA/FEIS for McGregor Range will be available for a 30-day protest period in accordance with BLM's land use planning regulations (43 CFR 1610.5-2). Protests must be filed within 30 days of the date the Environmental Protection Agency publishes its notice of availability of the FEIS.

ADDRESSES: Written protests must be submitted to: Director, Bureau of Land Management, Attention: Ms. Brenda Hudgens-Williams, Protests Coordinator, WO-210, P.O. Box 66538, Washington, DC 20035.

Alternatively, and to expedite delivery, you may send your protest using an express delivery service to: Director, Bureau of Land Management, Attention: Ms. Brenda Hudgens-Williams, Protests Coordinator, WO-210, 1620 L Street, NW., Suite 1075, Washington, DC 20036.

E-mail and faxed protests will not be accepted as valid protests unless the protesting party also provides the original letter by either regular or overnight mail postmarked by the close of the protest period. Under these conditions, BLM will consider the e-mail or faxed protest as an advance copy and it will receive full consideration. If you wish to provide BLM with such advance notification, please direct faxed protests to the attention of the BLM protest coordinator at 202-452-5112, and e-mails to Brenda_Hudgens-Williams@blm.gov.

FOR FURTHER INFORMATION CONTACT: Tom Phillips, BLM Las Cruces District Office, 1800 Marquess, Las Cruces, New Mexico 88005 or by telephone (505) 525-4377; Fax (505) 525-4412.

SUPPLEMENTARY INFORMATION: This land use plan amendment focuses on the principle of multiple-use management and sustained yield as prescribed by Section 202 of FLPMA. The Proposed RMPA/FEIS considers and analyzes four alternatives. These alternatives have been developed based on extensive public input following scoping (July 2001), review and comment on the Draft RMPA/EIS (January 2005-April 2005), and numerous meetings with local governments, interested groups, local citizens, and the New Mexico Resource Advisory Council. Alternative A is the proposed plan and provides for a balance of resource use and conservation.

The BLM Planning Regulations, 43 CFR 1610.5-2, state that any person who participated in the planning process and has an interest which may be adversely affected may protest. A protest may raise only those issues which were submitted for the record during the planning process. Protests must be filed within 30 days of the date the Environmental Protection Agency publishes its notice of availability of the FEIS. Specific dates of the protest period will be announced through the local news media and the following BLM Web site: http://www.blm.gov/nhp/spotlight/state_info/planning.htm. To be considered timely, your protest must be postmarked no later than the last day of the protest period. Though not a requirement, we suggest that you send your protest by certified mail, return receipt requested. You are also encouraged, but not required, to forward a copy of your protest to the Las Cruces District Manager at 1800 Marquess, Las Cruces, New Mexico 88005. To be considered complete, your protest must contain (at a minimum) the following information:

(1) Name, mailing address, telephone number and the affected interest of the person filing the protest(s).

(2) A statement of the issue or issues being protested.

(3) A statement of the part or parts of the proposed plan being protested. To the extent possible, reference specific pages, paragraphs, and sections of the document.

(4) A copy of all your documents addressing the issue or issues which were discussed with the BLM for the record.

(5) A concise statement explaining why the proposed decision is believed to be incorrect. This is a critical part of your protest. Document all relevant facts, as thoroughly as possible. Disagreement, by itself, with a proposed decision or with how the data are used, or unsupported allegations of violations of regulation, law, legal precedents, or other guidance, will not meet the requirement of the regulations.

Freedom of Information Act Considerations: Public submissions for this planning effort, including names and street addresses or respondents, will be available for public review in their entirety after the protest period closes at the Las Cruces District Office during regular business hours (7:45 a.m. to 4:30 p.m.), Monday through Friday, except Federal holidays. Individual respondents may request confidentiality. If you wish for BLM to withhold your name or street address from public review or from disclosure under the Freedom of Information Act, you must state this prominently at the beginning of the submission. Such requests will be honored to the extent allowed by law. All submissions from organizations or businesses, and from individuals representing organizations or businesses, will be made available for public inspection in their entirety.

Documents pertinent to this proposal may be examined at the Las Cruces District Office in Las Cruces, New Mexico during regular business hours (7:45 a.m. to 4:30 p.m., Monday through Friday, except holidays. A hard copy of the document may be requested from the BLM Las Cruces District Office at the address and phone number above. After resolution of any protests an approved RMPA/Record of Decision will be prepared and is expected to be available in early 2006.

Dated: October 17, 2005.
Linda S.C. Rundell,
New Mexico State Director.

[FR Doc. 06-285 Filed 1-12-06; 8:45 am]

BILLING CODE 4310-VC-P